NUCLEAR REGULATORY COMMISSION

10 CFR Part 72

RIN 3150-AH25

List of Approved Spent Fuel Storage Casks: NAC-UMS Revision, Confirmation of Effective Date

AGENCY: Nuclear Regulatory Commission.

ACTION: Direct final rule: Confirmation of effective date.

SUMMARY: The Nuclear Regulatory Commission (NRC) is confirming the effective date of March 31, 2004, for the direct final rule that was published in the Federal Register on January 16, 2004 (69 FR 2497). This direct final rule amended the NRC's regulations to revise the NAC International, Inc., NAC-UMS cask system listing within the “List of Approved Spent Fuel Storage Casks” to include Amendment No. 3 to Certificate of Compliance Number 1015.

EFFECTIVE DATE: The effective date of March 31, 2004, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219, e-mail jmm2@nrc.gov.

SUPPLEMENTARY INFORMATION: On January 16, 2004 (69 FR 2497), the NRC published a direct final rule amending its regulations in 10 CFR part 72 to revise the NAC International, Inc., NAC-UMS cask system listing within the “List of Approved Spent Fuel Storage Casks” to include Amendment No. 3 to Certificate of Compliance Number 1015. This amendment adds an alternate poison material, revises fuel assembly dimensions, revises thermal analyses, increases Boiling Water Reactor fuel assembly weight, and incorporates Interim Staff Guidance-11 revision provisions. The amendment also reorganizes Section 6.5 of the Safety Evaluation Report, revises Technical Specification A.5.5, and requests several editorial and administrative changes. In the direct final rule, NRC stated that if no significant adverse comments were received, the direct final rule would become final on March 31, 2004. The NRC did not receive any comments that warranted withdrawal of the direct final rule. Therefore, this rule will become effective as scheduled.

Dated at Rockville, Maryland, this 25th day of March, 2004.
For the Nuclear Regulatory Commission.
Michael T. Lesar,
Chief, Rules and Directives Branch, Division of Administrative Services, Office of Administration.

[FR Doc. 04-7163 Filed 3-30-04; 8:45 am]

BILLING CODE 7590-01-P